INTERNATIONAL TRADE COMMISSION

[Investigation 332-425]

U.S.-Korea FTA: The Economic Impact of Establishing a Free Trade Agreement (FTA) Between the United States and the Republic of Korea

AGENCY: United States International Trade Commission.

ACTION: Institution of investigation and scheduling of public hearing.

EFFECTIVE DATE: January 9, 2001.

SUMMARY: Following receipt of a request on December 18, 2000, from the Senate Committee on Finance (Committee), the Commission instituted investigation No. 332-425, U.S.-Korea FTA: The Economic Impact of Establishing a Free Trade Agreement (FTA) Between the United States and the Republic of Korea, under section 332(g) of the Tariff Act of 1930 (19 U.S.C. 1332(g)). The Commission plans to submit its report by September 18, 2001.

As requested by the Committee, in its report the Commission will provide to the extent possible:

• An overview of the Korean economy

• An overview of the current economic relationship between the United States and the Republic of Korea, including a discussion of the important industry sectors in both countries

• An inventory and analysis of the main barriers (tariff and nontariff) to trade between the United States and the Republic of Korea

• To the extent data are available, the estimated effects of eliminating all quantifiable trade barriers (tariff and nontariff), with special attention to agricultural goods, on:

• The volume of trade in goods and services between the two countries

• Sectoral output and gross domestic product for each country

• Wages and employment across industry sectors for each country

• Final prices paid by consumers in each country

• A qualitative assessment of the effects of removing nonquantifiable trade barriers

FOR FURTHER INFORMATION CONTACT: Information may be obtained from Christine McDaniel, Project Leader (TEL: 202-708-5404; EMAIL: cmcdaniel@usitc.gov), Office of Economics, or Alan Fox, Deputy Project Leader (TEL: 202-205-3267; EMAIL: afox@usitc.gov), Office of Economics, U.S. International Trade Commission, Washington, DC, 20436. For information on the legal aspects, contact William Gearhart (TEL: 202-205-3091; EMAIL: wgearheart@ustic.gov), Office of the General Counsel. Hearing impaired individuals are advised that information on this matter can be obtained by contacting the TDD terminal on (202) 205-1810.

Background: In its letter to the Commission, the Committee stated that a number of the United States' trading partners have aggressively pursued free trade area negotiations that may segment markets to the commercial disadvantage of the United States. The Committee indicated that over the course of the next several months it expects to ask the Commission for a series of investigations under section 332 related to the economic impact of negotiating bilaterally or regionally with particular trading partners in the absence of a new round of multilateral talks.

Public Hearing: A public hearing in connection with the investigation will be held at the U.S. International Trade Commission Building, 500 E Street SW, Washington, DC, beginning at 9:30 a.m. on May 17, 2001. All persons shall have the right to appear, by counsel or in person, to present information and to be heard. Requests to appear at the public hearing should be filed with the Secretary, United States International Trade Commission, 500 E Street SW, Washington, DC 20436, no later than 5:15 p.m., April 27, 2001. Any prehearing briefs (original and 14 copies) should be filed no later than 5:15 p.m., May 4, 2001; the deadline for filing post-hearing briefs or statements is 5:15 p.m., May 25, 2001. In the event that, as of the close of business on April 27, 2001, no witnesses are scheduled to appear at the hearing, the hearing will be canceled. Any person interested in attending the hearing as an observer or nonparticipant may call the Secretary of the Commission (202-205-1806) after April 27, 2001, to determine whether the hearing will be held.

Written Submissions: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. To be assured of consideration by the Commission, written statements relating to the Commission's report should be submitted to the Commission at the earliest practical date and should be received no later than the close of business on May 25, 2001. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects

Republic of Korea, Free Trade Agreement, Tariffs, and Imports.

Issued: January 10, 2001.
By order of the Commission.
Donna R. Koehnke,
Secretary.

[FR Doc. 01-1489 Filed 1-17-01; 8:45 am]

BILLING CODE 7020-02-P